DEPARTMENT OF AGRICULTURE

Animal and Plant Health Inspection Service

[Docket No. APHIS-2006-0078]

Evaluating the Invasive Potential of Imported Plants; Electronic Public Discussion

AGENCY: Animal and Plant Health Inspection Service, USDA.

ACTION: Notice of electronic public discussion.

SUMMARY: We are advising the public that the Animal and Plant Health Inspection Service (APHIS) is hosting an electronic public discussion on methods that can be used to evaluate the potential of imported plants to become invasive species if they are introduced into the United States. Any interested person can register for the electronic discussion, which will allow participants to upload files and interact with other participants and with APHIS staff.

DATES: The electronic public discussion will be held from November 27, 2006 to January 26, 2007.

FOR FURTHER INFORMATION CONTACT: Ms. Polly Lehtonen, Senior Staff Officer, Commodity Import Analysis and Operations, PPQ, APHIS, 4700 River Road Unit 133, Riverdale, MD 20737-1236; (301) 734-8758.

SUPPLEMENTARY INFORMATION:

Background

Under the Plant Protection Act (7 U.S.C. 7701-7772 et seq.), noxious weed is defined as: “Any plant or plant product that can directly or indirectly injure or cause damage to crops (including nursery stock or plant products), livestock, poultry, or other interests of agriculture, irrigation, navigation, the natural resources of the United States, the public health, or the environment.” The Plant Protection Act authorizes the Secretary of Agriculture to undertake such actions as may be necessary to prevent the introduction and spread of plant pests and noxious weeds within the United States. The Secretary has delegated this responsibility to the Administrator of the Animal and Plant Health Inspection Service (APHIS).

The regulations in 7 CFR part 360, “Noxious Weed Regulations,” contain restrictions on the movement of noxious weed plants or plant products listed in that part into or through the United States and interstate. To add a plant to the list of noxious weeds in part 360, or to remove a plant from that list, APHIS conducts a pest risk analysis. One part of this analysis is an evaluation of the potential of the plant to become an invasive species. (The term invasive species is defined by Executive Order 13112 as a species that is: (1) Non-native (or alien) to the ecosystem under consideration and (2) whose introduction causes or is likely to cause economic or environmental harm or harm to human health. The first part of this definition includes all imported plants that are not present in the United States; the second part is consistent with the definition of noxious weed in the Plant Protection Act, as quoted above. Accordingly, we make a determination regarding a plant's potential for invasiveness when determining whether to add the plant to the noxious weed list in part 360.) If the pest risk analysis indicates that a change should be made to the regulations, we undertake rulemaking to do so.

Since it is impossible to determine definitively whether a plant that is not present in the United States will become invasive when introduced to the United States without actually introducing the plant, APHIS uses other types of scientific information to help make judgments about whether a plant, if imported, would be likely to be invasive. Several years ago, APHIS commissioned an evaluation of the state of scientific knowledge about biological invasions and the state of our ability to reliably predict the outcome of accidental or intentional introductions of nonindigenous species. The National Research Council established the Committee on the Scientific Basis for Predicting the Invasive Potential of Nonindigenous Plants and Plant Pests in the United States to complete this evaluation. The resulting study, published in 2002, concluded that the record of a plant's invasiveness in other geographical areas is currently the most reliable predictor of the plant's ability to establish itself and become invasive when introduced into the United States.¹

¹ The study is available for purchase through the Internet at http://www.nap.edu/catalog/10259.html.

The study further concluded that there are currently no known broad scientific principles or reliable procedures for evaluating the invasive potential of plants in geographic ranges where they are not present, but that a conceptual basis for understanding invasions exists, and this conceptual basis could be developed into principles for predicting invasiveness. The study recommended that the framework APHIS uses to evaluate imported plants for potential release as forage, crops, soil reclamation, and ornamental landscaping should be expanded to include evaluation of the hazards these species might pose. The study also recommended that controlled experimental field screening for potentially invasive species be pursued for species whose features are associated with establishment and rapid spread without cultivation and whose history of introduction into the United States is unknown.

To follow up on these recommendations, we are requesting an exchange of ideas and information about methods to evaluate plants for potential invasiveness. The information will be helpful for both the APHIS noxious weed program and the revision of the nursery stock quarantine regulations in 7 CFR part 319 (§§ 319.37 through 319.37-14). (The revision of the nursery stock regulations was discussed in general terms in an advance notice of proposed rulemaking published in the Federal Register on December 10, 2004 [69 FR 71736-71744, Docket No. 03-069-1].) As part of the revision of the nursery stock regulations, we anticipate publishing a proposed rule at some point following this electronic discussion that will solicit public comment on establishing a category of plants whose importation is not authorized pending pest risk analysis based on other scientific evidence that indicates invasive potential. Because we would be performing pest risk analyses to remove plants from that category and either allow their importation or add them to the list of prohibited noxious weeds, we would like to ensure that our pest risk analysis process for potentially invasive plants is able to evaluate the risk posed by these plants as thoroughly and rigorously as possible.

Members of the APHIS Weed Team will participate in the electronic discussion. We will share all data and opinions offered during the discussion with other groups that are interested in methods to predict invasiveness for both plants and animals, such as the National Invasive Species Council Pathways Work Team and the North American Plant Protection Organization Invasive Species Panel.

Questions for Discussion

We would like participants in the electronic discussion to specifically address the following six questions, although general comments on the issue of evaluating invasiveness will be accepted as well.

1. What criteria, other than whether the plant has a history of invasiveness elsewhere, are most useful to determine the invasiveness of a plant introduced into the United States for the first time?

2. When there is little or no existing scientific literature or other information describing the invasiveness of a plant species, how much should we extrapolate from information on congeners (other species within the same genus)?

3. What specific scientific experiments should be conducted to best evaluate a plant's invasive potential? Should these experiments be conducted in a foreign area, in the United States, or both?

4. How should the results of such experiments be interpreted? Specifically, what results should be interpreted as providing conclusive information for a regulatory decision?

5. If field trials are necessary to determine the invasive potential of a plant, under what conditions should the research be conducted to prevent the escape of the plant into the environment?

6. What models or techniques are being used by the nursery industry, weed scientists, seed companies, botanical gardens, and others to screen plants that have not yet been widely introduced into the United States for invasiveness? What species have been rejected by these evaluators as a result of the use of these evaluation methods?

Accessing the Electronic Discussion

The electronic public discussion will be held from November 27, 2006 to January 26, 2007. We are beginning the discussion 2 weeks after this notice is published in the Federal Register to give participants time to consider the questions and assemble any relevant information.

While anyone can access the discussion and read the comments, registration is required in order to participate in the discussion. You will be asked to register at the time you post your comment. The discussion will be accessible through a link on Plant Protection and Quarantine's Web page for the nursery stock revision, http://www.aphis.usda.gov/ppq/Q37/revision.html. Participants will be required to enter their name and e-mail address. Affiliation and mailing address are optional. Only the participant names will be publicly displayed; the other information will allow us to contact you to resolve technical difficulties or request additional information or clarification. When the discussion begins, there will be a link to access the discussion itself on the nursery stock revision Web page.

The discussion will be convened using IBM Domino software, which allows participants to upload and view files as well as make posts in the discussion. The IBM Domino software supports Microsoft Internet Explorer and other major Web browsers for both Windows and Macintosh systems. Technical support will be available during the discussion. There is no cost to participate in the discussion.

Because APHIS staff will review posts as they are submitted, there may be some delay between the submission of a post and its availability in the public discussion. Multiple APHIS staff members will be monitoring the discussion, and we will try to minimize any delays.

If you wish to submit comments or other information on the topics described in this notice, but you do not wish to be part of the electronic discussion, you may send your comments via postal mail or commercial delivery to the person listed under FOR FURTHER INFORMATION CONTACT at the beginning of this notice.

Done in Washington, DC, this 1st day of November 2006.
W. Ron DeHaven,
Administrator, Animal and Plant Health Inspection Service.

[FR Doc. E6-18768 Filed 11-9-06; 8:45 am]

BILLING CODE 3410-34-P